DEPARTMENT OF COMMERCE

National Oceanic and Atmospheric Administration

50 CFR Part 622

[Docket No. 220617-0138]

RIN 0648-BL02

Fisheries of the Caribbean, Gulf of Mexico, and South Atlantic; Reef Fish Fishery of the Gulf of Mexico; Red Snapper Data Calibrations and Harvest Levels

AGENCY: National Marine Fisheries Service (NMFS), National Oceanic and Atmospheric Administration (NOAA), Commerce.

ACTION: Proposed rule; request for comments.

SUMMARY: NMFS proposes to implement management measures described in two framework actions under the Fishery Management Plan for the Reef Fish Resources of the Gulf of Mexico (FMP), as prepared by the Gulf of Mexico (Gulf) Fishery Management Council (Council). If implemented, this proposed rule would modify the state-specific red snapper private angling components annual catch limits (ACLs) to reflect each state's monitoring program. In addition, this proposed rule would modify commercial and recreational sector and recreational component red snapper ACLs and annual catch targets (ACTs) in the Gulf exclusive economic zone (EEZ). The purpose of this proposed rule is to calibrate Gulf red snapper state private angling component ACLs to reduce the likelihood of overfishing, to increase the Gulf red snapper ACLs and ACTs consistent with updated scientific information, and to continue to achieve optimum yield (OY) for the stock.

DATES: Written comments must be received on or before July 28, 2022.

ADDRESSES: You may submit comments on the proposed rule, identified by “NOAA-NMFS-2022-0028” by any of the following methods:

• Electronic Submission: Submit all electronic public comments via the Federal e-Rulemaking Portal. Go to https://www.regulations.gov and enter “NOAA-NMFS-2022-0028”, in the Search box. Click on the “Comment” icon, complete the required fields, and enter or attach your comments.

• Mail: Submit written comments to Dan Luers, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the framework actions, which include environmental assessments, regulatory impact reviews, and Regulatory Flexibility Act (RFA) analyses, may be obtained from the Southeast Regional Office website at https://www.fisheries.noaa.gov/action/red-snapper-data-calibrations-and-catch-limit-modifications.

FOR FURTHER INFORMATION CONTACT: Dan Luers, Southeast Regional Office, NMFS, telephone: 727-824-5305, email: daniel.luers@noaa.gov.

SUPPLEMENTARY INFORMATION: The Gulf reef fish fishery, which includes red snapper, is managed under the FMP. The FMP was prepared by the Council and is implemented by NMFS through regulations at 50 CFR part 622 under the authority of the Magnuson-Stevens Fishery Conservation and Management Act (Magnuson-Steven Act).

Unless otherwise noted, all weights in this proposed rule are in round weight.

This proposed rule would implement management measures for both the Gulf of Mexico Red Snapper Recreational Data Calibration and Recreational Catch Limits Framework Action (Calibration Framework) and the Modification of Annual Catch Limits for Gulf of Mexico Red Snapper Framework Action (Catch Limits Framework). Briefly, the Calibration Framework would modify the state-specific red snapper private angling component ACLs using the calibration ratios developed by NMFS' Office of Science and Technology and the Gulf states. The Catch Limits Framework would increase the red snapper overfishing limit (OFL), acceptable biological catch (ABC), ACLs, and ACTs consistent with the red snapper interim analyses and recommendations from the Council's Scientific and Statistical Committee (SSC). These two framework actions are combined in this single proposed rule because both actions adjust the red snapper catch limits.

Background

The Magnuson-Stevens Act requires NMFS and regional fishery management councils to prevent overfishing and to achieve, on a continuing basis, the OY from federally managed fish stocks to ensure that fishery resources are managed for the greatest overall benefit to the nation, particularly with respect to providing food production and recreational opportunities, and protecting marine ecosystems.

Red snapper in the Gulf EEZ is harvested by both the commercial and recreational sectors. Each sector has its own ACL and associated management measures. The stock ACL is allocated 51 percent to the commercial sector and 49 percent to the recreational sector. These sector allocations were implemented in 1990 through Amendment 1 to the Reef Fish FMP (55 FR 14; January 22, 1990). The stock ACL for red snapper was set at and remains equal to the ABC. In 2015, Amendment 40 to the FMP (80 FR 22422; April 22, 2015) divided the recreational ACL (quota) between the Federal for-hire component (42.3 percent), which includes operators of federally permitted charter vessels and headboats (for-hire vessels), and the private angling component (57.7 percent), which includes private anglers.

In February 2020, NMFS implemented state management of red snapper for the private angling component through Amendments 50 A-F to the FMP (85 FR 6819; February 6, 2020). Through these amendments, each state was allocated a portion of the red snapper private angling component ACL and was delegated the authority to set the private angling fishing season, bag limit, and size limit. These amendments also established an accountability measure that required any overage of a state's ACL to be deducted in the following year (i.e., a payback provision).

The Calibration Framework

The Calibration Framework describes in detail the various data collection programs used to estimate red snapper landings by private anglers. Until recently (2014), NMFS provided the only estimates of private angler red snapper landings in all of the Gulf states, except Texas. Texas anglers have never participated in the NMFS recreational data collection survey. In 2014, Alabama and Louisiana, and in 2015, Florida and Mississippi, implemented state data collection programs to collect this private angler information. Each of these programs is unique and NMFS has observed differences (sometimes substantial) between Federal estimates of recreational catch and each state's own estimate. Specifically, the Alabama and Mississippi surveys tend to generate much lower landings estimates than the Federal survey.

The current red snapper catch limits (OFL, ABC, ACLs, and ACTs) are based, in part, on private-angling landings estimated using the Federal data collection system, and NMFS uses the estimates from the Federal survey to determine whether landings exceed the total recreational ACL (quota) and the stock OFL. However, each Gulf state manages the harvest by its private anglers using estimates from its own state data collection program. The MRIP-based catch limits for Florida, Alabama, Mississippi, and Louisiana are not directly comparable to the landings estimates generated by each of those states, and the state estimates are not directly comparable to each other. In other words, each state is estimating landings in a different “currency.” Therefore, the NMFS Office of Science and Technology (OST) worked with the Gulf States to develop calibration ratios so that each state's catch limit could be converted to the “currency” in which each state monitors landings.

The current systems each state uses to manage private angling harvest have resulted in exceeding the total recreational ACL (quota) and the OFL. In 2018 and 2019, the private angling component ACL and recreational ACL were exceeded even though the Federal for-hire component landings did not exceed the for-hire component ACL. In 2019, total red snapper landings exceeded the OFL.

To address this issue, the Council developed the Calibration Framework and selected as preferred the alternative that uses the calibration ratios to adjust each state's ACL into the “currency” in which that state monitors landings. These ratios are: Alabama (0.4875); Florida (1.0602); Louisiana (1.06); Mississippi (0.3840); Texas (1.00). The MRIP-based ACLS are multiplied by the ratios to determine the state currency ACLs. The preferred alternative also included an implementation date of January 1, 2023. The Council concluded that this delay in implementation would afford the Gulf states and the NMFS OST an opportunity to resolve the differences in state-specific data collection programs and MRIP-FES (e.g., scale and precision of catch estimates), as recommended by both the Council's SSC (during discussion at several SSC meetings) and a 2021 National Academy of Sciences report to Congress.

In February 2022, NMFS OST and the Gulf states participated in a workshop on the transition to the use of state survey catch data in Gulf of Mexico fisheries. The purpose of the workshop was to agree on the elements of a Gulf State Recreational Catch and Effort Estimation Surveys Transition Plan. When executed, this plan will allow for the full use of state recreational fishing data in NOAA Fisheries' stock assessment and management processes. More information about this workshop can be found at https://www.fisheries.noaa.gov/event/gulf-state-recreational-catch-and-effort-surveys-transition-workshop.

The Catch Limits Framework

In 2019, NMFS implemented a framework action that set the current red snapper catch limits (85 FR 6819; February 6, 2020). These catch limits are based on most recent Gulf red snapper Southeast Data, Assessment, and Review stock assessment (SEDAR 52), completed in 2018, and the Council's SSC recommendations. The current red snapper stock OFL is 15.5 million lb (7.0 million kg), the ABC and stock ACL are 15.1 million lb (6.8 million kg). The commercial ACL is 7.701 million lb (3.493 million kg), and the recreational ACL is 7.399 million lb (3.356 million kg). The Federal for-hire component ACL is 3.130 million lb (1.420 million kg) and the private angling component ACL is 4.269 million lb (1.936 million kg). The Federal for-hire component ACT is 2.848 million lb (1.292 million kg) and the private angling component ACT is 3.415 million lb (1.5498 million kg). The commercial sector does not have a sector ACT because it is managed under an individual fishing quota (IFQ) program that effectively constrains landings to the commercial ACL. The 2019 framework also set the Federal for-hire component ACT at 9 percent below its ACL. The for-hire component ACT is in place to reduce the likelihood of exceeding the for-hire ACL, as well as the total recreational ACL. A private angling component ACT is set 20 percent below the private angling ACL, but would only be used if a Gulf state did not have an active delegation under the red snapper state management program.

In 2016, Congress awarded funding to researchers in an effort to independently estimate the population size of red snapper in the Gulf. Commonly known as the “Great Red Snapper Count” (GRSC), this project's primary goal was to provide a snapshot of estimate abundance and distribution of age 2 and older red snapper on artificial, natural, and uncharacterized bottom habitat across the northern Gulf through 2019. At its April 2021 meeting, the Council was briefed on the results of the GRSC. The GRSC estimated the abundance of red snapper in the Northern Gulf was approximately three times greater than had been estimated in the previous stock assessment (SEDAR 52).

The Southeast Fisheries Science Center (SEFSC) worked collaboratively with the GRSC investigators to develop a method that could be used to integrate the results of the GRSC into catch limit advice that is currently based on SEDAR 52. The SEFSC developed catch projections using GRSC estimates of abundance to scale projections that initially used abundance estimates from SEDAR 52. The SEFSC also developed catch level projections based on an interim analysis using information from the NMFS Bottom Longline (BLL) survey, which was similar to the approach previously used for Gulf red grouper and gray triggerfish projections. The NMFS BLL survey is an annual survey that can be used to determine long-term trends in the abundance of a stock.

The SSC reviewed both sets of projections at its March 30-April 2, 2021, meeting. The SSC expressed some concerns about using the GRSC findings to recommend catch levels. Specifically, the SSC noted the uncertainty associated with the GRSC biomass estimate, questions about the productivity of the red snapper stock that are raised by the GRSC findings (that the productivity of the stock appears to be lower than previously assumed), and the declining trend observed recently in the NMFS BLL survey. Based on these concerns, and until additional information could be presented related to the SSC's questions about some aspects of the GRSC, the SSC determined that it was appropriate to use the GRSC based interim analysis to recommend the OFL, which would be used determine if overfishing is occurring, but not to recommend the ABC, which constrains the total allowable catch that may be specified by the Council.

For the OFL recommendation, the SSC decided to use the projection based on the abundance of all red snapper over structure (artificial reef, natural reef, and pipeline) and 13 percent of the abundance from the unclassified bottom, and used a 3-year average of the maximum sustainable yield proxy for Gulf red snapper (the mortality corresponding to a 26 percent reduction in the spawning potential ratio from an unfished condition). This OFL for Gulf red snapper is 25.6 million lb (11.6 million kg). With respect to the ABC, the SSC determined that 2020 data should not be used for this interim analysis because of the low sample size and high coefficient of variation for that data, and recommended that the catch advice be derived from the 5-year average. Based on these selections, the Council's SSC provided an ABC recommendation for Gulf red snapper of 15.4 million lb (7.0 million kg). This recommendation reflects the SSC's determination that the ABC should be considerably more conservative than the OFL, at least until the SSC questions related to the GRSC are more thoroughly explored.

The SSC has reviewed new information related the GRSC on several occasions. At its March 2022 meeting, the SSC made new catch level recommendations based a SEFSC analysis that used updated GRSC information. These new recommendations would decrease the OFL to 18.91 million lb (8.58 million kg) and increase the ABC to 16.31 million lb (7.40 million kg). In April 2022, the Council began work on a new framework action to adjust the red snapper catch limits consistent with these recommendations.

The Council approved both the Data Calibration Framework Action and the Catch Limits Framework Action at its April 2021 meeting. However, NMFS expressed concern about the Council's proposal to delay implementation of the Calibration Framework until 2023, and requested that the Council reconsider that implementation timing. The Council discussed the request at its August 2021 meeting but did not make any changes to the implementation date of the preferred alternative.

Management Measures Contained in This Proposed Rule

This proposed rule would modify the state-specific red snapper private angling component ACLs using the calibration ratios adopted by the Council, and increase the red snapper ACLs and ACTs consistent with the red snapper interim analyses and the subsequent SSC recommendations. The calibrations are necessary to convert the state private angling component ACLs into the same “currency” in which each state monitors landings by the private angling component. This would reduce the likelihood of exceeding the red snapper private angling component ACL, the total recreational ACL, and the OFL.

ACLs and ACTs

If implemented, this proposed rule would increase the Gulf red snapper catch limits. The stock ACL would increase from 15,100,000 lb (6,800,000 kg) to 15,400,000 lb (7,000,000 million kg). The commercial ACL (commercial quota) would increase from 7,701,000 lb (3,493,000 kg) to 7,854,000 lb (3,562,514 kg), and the recreational ACL (recreational quota) would increase from 7,399,000 lb (3,356,000 kg) to 7,546,000 lb (3,422,808 kg). The for-hire component recreational ACL would increase from 3,130,000 lb (1,420,000 kg) to 3,191,958 lb (1,447,848 kg). The private angling component recreational ACL would increase from 4,269,000 lb (1,936,000 kg) to 4,354,042 lb (1,974,960 kg). In addition, the private angling recreational ACT would increase from 3,415,000 lb (1,549,000 million kg kg) to 3,483,234 lb (1,579,968 kg).

For the Federal for-hire component, the Council chose to maintain the current buffer between the ACL and ACT at 9 percent to minimize the risk of ACL overages. Therefore, as a result, the for-hire component ACT would increase from 2,848,000 lb (1,292,000 kg) to 2,904,682 lb (1,317,542 kg).

Because of the increased recreational private angling component ACL in this proposed rule, each Gulf state would be initially allocated an increase in their specific state private angling component ACL. Alabama's ACL would increase from 1,122,662 lb (509,231 kg) to 1,145,026 lb (519,375 kg); Florida's ACL would increase from 1,913,451 lb (867,927 kg) to 1,951,569 lb (885,217 kg); Louisiana's ACL would increase from 816,233 lb (370,237 kg) to 832,493 lb (377,612 kg); Mississippi's ACL would increase from 151,550 lb (68,742 kg) to 154,568 lb (70,110 kg); and Texas's ACL would increase from 265,105 lb (120,250 kg) to 270,386 lb (122,645 kg). The above proposed changes to state catch limits are based on the Catch Limits Framework. These are not the final catch limits that would be implemented through this proposed rule and they are not included in the codified text in this rule because the calibration ratios need to be applied as described in the following paragraph.

Each Gulf state's private angling component ACL in the prior paragraph would be modified by applying the calibration ratios adopted by the Council. The final private angling component ACLs followed by the Federal equivalent are as follows: the Alabama private angling component ACL would be 558,200 lb (253,195 kg) or Federal equivalent of 1,145,026 lb (519,375 kg); The Florida private angling component ACL would be 2,069,053 lb (938,507 kg) or Federal equivalent of 1,951,569 lb (885,217 kg); The Louisiana private angling component ACL would be 882,443 lb (400,269 kg) or Federal equivalent of 832,493 lb (337,612 kg); the Mississippi private angling component ACL would be 59,354 lb (26,923 kg) or Federal equivalent of 154,568 lb (70,111 kg); and the Texas private angling component ACL (Equal to Federal) would be 270,386 lb (122,645 kg). Each state will use its reporting system to monitoring landings and appropriately constrain harvest to its ACL. NMFS will convert the state landings estimates to the Federal “currency” to determine whether landings have been constrained to the private angling ACL, total recreational ACL (quota) and OFL. This is necessary because the private angling ACL, total recreational ACL (quota) and OFL will remain in the Federal “currency.”

Minority Report

A minority report signed by three Council members raised objections to the Council's decision to approve the Calibration Framework with an implementation date of January 1, 2023 included in the preferred alternative. These Council members were concerned that delaying implementation until 2023 would allow 2 additional fishing years (2021 and 2022) where the private angling component of the recreational sector would be allowed to catch more than its allocation of red snapper. NMFS invites specific comment on the proposed implementation date of January 1, 2023, and has otherwise determined that the proposed rule is consistent with the Magnuson-Stevens Act. Any final rule will respond to comments on the proposed rule received by NMFS during the comment period, as well as the issues raised in the Council's minority report. The minority report is available at the website: https://gulfcouncil.org/wp-content/uploads/Council-Minority-Report-FINAL-Signatures.pdf.

Classification

Pursuant to section 304(b)(1)(A) of the Magnuson-Stevens Act, the NMFS Assistant Administrator has determined that this proposed rule is consistent with the framework actions, the FMP, other provisions of the Magnuson-Stevens Act, and other applicable law, subject to further consideration after public comment.

This proposed rule has been determined to be not significant for purposes of Executive Order 12866.

The Chief Counsel for Regulation of the Department of Commerce has certified to the Chief Counsel for Advocacy of the Small Business Administration that this proposed rule, if adopted, would not have a significant economic impact on a substantial number of small entities. The factual basis for this determination follows.

A description of this proposed rule, why it is being considered, and the objectives of this proposed rule are contained in the preamble. The Magnuson-Stevens Act provides the statutory basis for this proposed rule. No duplicative, overlapping, or conflicting Federal rules have been identified. In addition, no new reporting, record-keeping, or other compliance requirements are introduced by this proposed rule.

This proposed rule would apply to all federally-permitted commercial vessels, federally-permitted charter vessels and headboats (for-hire vessels), and recreational anglers that fish for or harvest red snapper in Federal waters of the Gulf. It would also apply to red snapper IFQ shareholders. It would not directly apply to federally-permitted dealers. Any change in the supply of red snapper available for purchase by dealers as a result of this proposed rule, and associated economic effects, would be an indirect effect of the proposed rule and would therefore fall outside the scope of the RFA. Similarly, although it would apply to for-hire vessels, it would not be expected to have any direct effects on these entities. For-hire vessels sell fishing services to recreational anglers. The proposed changes to the red snapper management measures would not directly alter the services sold by these vessels. Any change in demand for these fishing services, and associated economic effects, as a result of this proposed rule would be a consequence of a change in anglers' behavior, secondary to any direct effect on anglers and, therefore, an indirect effect of the proposed rule. Because the effects on for-hire vessels would be indirect, they fall outside the scope of the RFA. Furthermore, for-hire captains and crew are not allowed to retain red snapper under the recreational bag limits, so only recreational anglers would be directly affected by the proposed changes to the red snapper recreational ACLs and ACTs. The RFA does not consider recreational anglers to be small entities, so they are outside the scope of this analysis (5 U.S.C. 603). Small entities include small businesses, small organizations, and small governmental jurisdictions (5 U.S.C. 601(6) and 601(3)-(5)). Recreational anglers are not businesses, organizations, or governmental jurisdictions. In summary, commercial vessels and IFQ shareholders are the only small entities that would be directly affected by the proposed rule, and therefore only the impacts on these small entities will be discussed.

As of April 26, 2021, after the Council approved both framework actions, there were 827 limited access valid or renewable commercial Gulf reef fish permits. In order to harvest red snapper, a vessel permit must also be linked to an IFQ account and possess sufficient allocation for this species. IFQ accounts can be opened and valid permits can be linked to IFQ accounts at any time during the year. Eligible vessels can receive red snapper allocation from other IFQ participants. On average, from 2015 through 2019, there were 637 IFQ accounts that held red snapper allocation and 364 that held red snapper shares. During the same time period, there were 434 federally-permitted commercial vessels, on average each year, with reported landings of red snapper in the Gulf. Their average annual vessel-level gross revenue from all species for 2015 through 2019 was approximately $147,000 (2019 dollars) and red snapper accounted for approximately half of this revenue. The maximum annual revenue from all species reported by a single one of the commercial vessels that landed Gulf red snapper from 2015 through 2019 was approximately $2.7 million (2019 dollars).

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide. All of the commercial fishing businesses directly regulated by this proposed rule are believed to be small entities based on the NMFS size standard.

No other small entities that would be directly affected by this proposed rule have been identified.

This proposed rule would modify the red snapper ACLs and recreational ACTs based on the OFL and ABC recommendations of the Council's SSC and ratio calibrations adopted by the Council for the state-specific red snapper private angling components. Under this proposed rule, the commercial ACL (quota) would increase by 153,000 lb (69,399 kg), which, if harvested in full, would correspond to an estimated increase in annual ex-vessel revenue of $719,000 (2019 dollars). Divided by the average number of commercial vessels with reported landings of red snapper from 2015 through 2019, this would be an increase of approximately $1,657 (2019 dollars) per vessel. In addition to the expected increase in ex-vessel revenue, the proposed increase in the commercial red snapper quota would be expected to result in an annual increase in allocation value of approximately $0.5 million (2019 dollars). Finally, total red snapper IFQ share value would be expected to increase by approximately $5.6 million (2019 dollars). These estimates rely on average ex-vessel, IFQ allocation, and IFQ share price estimates from 2019. Actual future prices could increase or decrease relative to 2019 as a result of market forces. NMFS expects that any negative price effects induced by this proposed rule, should they occur, would be outweighed by the benefits of the increased commercial quota.

In summary, the information provided above supports a determination that this proposed rule would not have a significant economic impact on a substantial number of small entities. As a result, an initial regulatory flexibility analysis is not required and none has been prepared.

This proposed rule contains no information collection requirements under the Paperwork Reduction Act of 1995.

List of Subjects in 50 CFR Part 622

Annual catch limits, Fisheries, Fishing, Gulf, Red snapper, Reef fish, Quota.

Dated: June 22, 2022.
Samuel D. Rauch, III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In § 622.23, revise paragraph (a)(1)(ii) to read as follows:

§ 622.23 State management of the red snapper recreational sector private angling component in the Gulf EEZ.

(a) * * *

(1) * * *

(ii) State private angling component ACLs. All ACLs specified below are in round weight and are consistent with monitoring under the respective state's reporting system. Equivalent ACLs, consistent with monitoring under the Federal reporting system, are provided, as applicable. If a state's delegation is suspended, as described in paragraph (a)(1) of this section, the Federal equivalent ACL, or for the Texas regional management area the ACL in paragraph (a)(1)(ii)(E), applies in the EEZ off that state.

(A) Alabama regional management area—558,200 lb (253,195 kg); Federal equivalent—1,145,026 lb (519,375 kg).

(B) Florida regional management area—2,069,053 lb (938,507 kg); Federal equivalent—1,951,569 lb (885,217 kg).

(C) Louisiana regional management area—882,443 lb (400,269 kg); Federal equivalent—832,493 lb (337,612 kg).

(D) Mississippi regional management area—59,354 lb (26,923 kg); Federal equivalent—154,568 lb (70,111 kg).

(E) Texas regional management area—270,386 lb (122,645 kg).

* * * * *

3. In § 622.39, revise paragraphs (a)(1)(i) and (a)(2)(i) to read as follows:

§ 622.39 Quotas.

* * * * *

(a) * * *

(1) * * *

(i) Commercial quota for red snapper—7,854,000 lb (3,562,514 kg), round weight.

* * * * *

(2) * * *

(i) Recreational quota for red snapper—(A) Total recreational. The total recreational quota is 7,546,000 lb (3,422,808 kg), round weight.

(B) Federal charter vessel/headboat component quota. The Federal charter vessel/headboat component quota applies to vessels that have been issued a valid Federal charter vessel/headboat permit for Gulf reef fish any time during the fishing year. A person aboard a vessel that has been issued a charter vessel/headboat permit for Gulf reef fish any time during the fishing year may not harvest or possess red snapper in or from the Gulf EEZ when the Federal charter vessel/headboat component is closed. The Federal charter vessel/headboat component quota is 3,191,958 lb (1,447,848 kg), round weight.

(C) Private angling component quota. The private angling component quota applies to vessels that fish under the bag limit and have not been issued a Federal charter vessel/headboat permit for Gulf reef fish any time during the fishing year. The private angling component quota is 4,354,042 lb (1,974,960 kg), round weight.

* * * * *

4. In § 622.41, revise the last sentence in paragraphs (q)(2)(iii)(B) and (q)(2)(iii)(C) to read as follows:

§ 622.41 Annual catch limits (ACLs), annual catch targets (ACTs), and accountability measures (AMs).

* * * * *

(q) * * *

(2) * * *

(iii) * * *

(B) * * * The component ACT is 2,904,682 lb (1,317,542 kg), round weight.

(C) * * * The component ACT is 3,483,234 lb (1,579,968 kg), round weight.

[FR Doc. 2022-13695 Filed 6-27-22; 8:45 am]

BILLING CODE 3510-22-P